DEPARTMENT OF ENERGY

Federal Energy Regulatory Commission

Combined Notice of Filings

April 2, 2009.

Take notice that the Commission has received the following Natural Gas Pipeline Rate and Refund Report filings:

Docket Numbers: RP96-359-040.

Applicants: Transcontinental Gas Pipe Line Company,

Description: Transcontinental Gas Pipe Line Company, LLC submits two executed amendments to service agreements containing negotiated rates, all of which pertain to Rate Schedule FT transportation service under Transco's Momentum Expansion Project.

Filed Date: 03/31/2009.

Accession Number: 20090401-0086.

Comment Date: 5 p.m. Eastern Time on Monday, April 13, 2009.

Docket Numbers: RP03-36-043.

Applicants: Dauphin Island Gathering Partners.

Description: Dauphin Island Gathering Partners submits Forty Fourth Revised Sheet 9 et al. to its FERC Gas Tariff, First Revised Volume 1 to be effective 4/1/09.

Filed Date: 03/31/2009.

Accession Number: 20090401-0087.

Comment Date: 5 p.m. Eastern Time on Monday, April 13, 2009.

Docket Numbers: RP09-486-000.

Applicants: Northern Border Pipeline Company.

Description: Northern Border Pipeline Company submits Thirteenth Revised Sheet 99 et al. to its FERC Gas Tariff, First Revised Volume 1 to be effective 5/1/09.

Filed Date: 03/31/2009.

Accession Number: 20090401-0085.

Comment Date: 5 p.m. Eastern Time on Monday, April 13, 2009.

Docket Numbers: RP09-487-000.

Applicants: High Island Offshore System, LLC.

Description: High Island Offshore System, LLC submits Third Revised Sheet 9 et al. to FERC Gas Tariff to become effective 5/1/09.

Filed Date: 03/31/2009.

Accession Number: 20090401-0030.

Comment Date: 5 p.m. Eastern Time on Monday, April 13, 2009.

Docket Numbers: RP09-488-000.

Applicants: ANR Pipeline Company.

Description: ANR Pipeline Co submits Sixteenth Revised Sheet No. 17A et al. to FERC Gas Tariff, Second Revised Volume No. 1.

Filed Date: 03/31/2009.

Accession Number: 20090401-0084.

Comment Date: 5 p.m. Eastern Time on Monday, April 13, 2009.

Docket Numbers: RP09-489-000.

Applicants: Columbia Gas Transmission, LLC.

Description: Gas Transmission, LLC submits First Revised Sheet No. 360 et al. to FERC Gas Tariff, Third Revised Volume No. 1.

Filed Date: 03/31/2009.

Accession Number: 20090401-0083.

Comment Date: 5 p.m. Eastern Time on Monday, April 13, 2009.

Docket Numbers: RP09-490-000.

Applicants: Columbia Gas Transmission, LLC.

Description: Columbia Gas Transmission, LLC submits non- conforming service agreements with Washington Gas Light Company executed as part of Columbia's Ohio Storage Project.

Filed Date: 03/31/2009.

Accession Number: 20090401-0088.

Comment Date: 5 p.m. Eastern Time on Monday, April 13, 2009.

Docket Numbers: RP09-491-000.

Applicants: East Tennessee Natural Gas, LLC.

Description: East Tennessee Natural Gas, LLC submits the 2007-2008 Cashout Report.

Filed Date: 03/31/2009.

Accession Number: 20090401-0082.

Comment Date: 5 p.m. Eastern Time on Monday, April 13, 2009.

Docket Numbers: RP09-492-000.

Applicants: High Island Offshore System, LLC.

Description: High Island Offshore System, LLC submits Second Revised Sheet No. 1 to FERC Gas Tariff, Third Revised Volume No. 1.

Filed Date: 03/31/2009.

Accession Number: 20090401-0081

Comment Date: 5 p.m. Eastern Time on Monday, April 13, 2009.

Docket Numbers: RP09-493-000.

Applicants: National Fuel Gas Supply Corporation.

Description: National Fuel Gas Supply Corp submits 126th Revised Sheet No.9 to FERC Gas Tariff, Fourth Revised Volume No. 1.

Filed Date: 03/31/2009.

Accession Number: 20090401-0080.

Comment Date: 5 p.m. Eastern Time on Monday, April 13, 2009.

Docket Numbers: RP09-494-000.

Applicants: Pine Needle LNG Company, LLC.

Description: Pine Needle LNG Co, LLC submits Seventeenth Revised Sheet No. 4 to FERC Gas Tariff, Original Volume No. 1.

Filed Date: 03/31/2009.

Accession Number: 20090401-0079.

Comment Date: 5 p.m. Eastern Time on Monday, April 13, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.
Deputy Secretary.

[FR Doc. E9-8259 Filed 4-10-09; 8:45 am]

BILLING CODE 6717-01-P